FEDERAL HOUSING FINANCE BOARD

[No. 2000-N-4]

Federal Home Loan Bank Members Selected for Community Support Review

AGENCY: Federal Housing Finance Board.

ACTION: Notice.

SUMMARY: The Federal Housing Finance Board (Finance Board) is announcing the Federal Home Loan Bank (Bank) members it has selected for the 2000-02 second quarter review cycle under the Finance Board's community support requirement regulation. This notice also prescribes the deadline by which Bank members selected for review must submit Community Support Statements to the Finance Board.

DATES: Bank members selected for the 2000-02 second quarter review cycle under the Finance Board's community support requirement regulation must submit completed Community Support Statements to the Finance Board on or before August 28, 2000.

ADDRESSES: Bank members selected for the 2000-02 second quarter review cycle under the Finance Board's community support requirement regulation must submit completed Community Support Statements to the Finance Board either by regular mail at the Office of Policy, Research and Analysis, Program Assistance Division, Federal Housing Finance Board, 1777 F Street, N.W., Washington, D.C. 20006, or by electronic mail at FITZGERALDE@FHFB.GOV.

FOR FURTHER INFORMATION CONTACT: Emma J. Fitzgerald, Program Analyst, Office of Policy, Research and Analysis, Program Assistance Division, by telephone at 202/408-2874, by electronic mail at FITZGERALDE@FHFB.GOV, or by regular mail at the Federal Housing Finance Board, 1777 F Street, N.W., Washington, D.C. 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the August 28, 2000 deadline prescribed in this notice. 12 CFR 944.2(b)(1)(ii) and (c). On or before July 28, 2000, each Bank will notify the members in its district that have been selected for the 2000-02 second quarter community support review cycle that they must complete and submit to the Finance Board by the deadline a Community Support Statement. 12 CFR 944.2(b)(2)(i). The member's Bank will provide a blank Community Support Statement Form, which also is available on the Finance Board's web site: WWW.FHFB.GOV. Upon request, the member's Bank also will provide assistance in completing the Community Support Statement.

The Finance Board has selected the following members for the 2000-02 second quarter community support review cycle:

Federal Home Loan Bank of Boston—District 1
Superior Savings of New England | Branford | Connecticut.
First FS & LA of East Hartford | East Hartford | Connecticut.
Enfield Federal Savings & Loan Association | Enfield | Connecticut.
Essex Savings Bank | Essex | Connecticut.
First International Bank | Hartford | Connecticut.
First City Bank | New Britain | Connecticut.
Citizens Bank | New London | Connecticut.
Cargill Bank | Putnam | Connecticut.
Auburn Savings & Loan | Auburn | Maine.
Augusta Federal Savings Bank | Augusta | Maine.
First National Bank of Bar Harbor | Bar Harbor | Maine.
First FS & LA of Bath | Bath | Maine.
Aroostook County FS & LA | Caribou | Maine.
Kennebunk Savings Bank | Kennebunk | Maine.
Skowhegan Savings Bank | Skowhegan | Maine.
Kennebec Federal Savings and Loan Association | Waterville | Maine.
North Middlesex Savings Bank | Ayer | Massachusetts.
Boston Private Bank & Trust Company | Boston | Massachusetts.
First Federal Savings Bank of Boston | Boston | Massachusetts.
First Trade Union Bank | Boston | Massachusetts.
Hyde Park Savings Bank | Boston | Massachusetts.
Investors Bank and Trust Company | Boston | Massachusetts.
Peoples Federal Savings Bank | Brighton | Massachusetts.
Cambridge Savings Bank | Cambridge | Massachusetts.
East Cambridge Savings Bank | Cambridge | Massachusetts.
Dedham Institution for Savings | Dedham | Massachusetts.
Eagle Bank | Everett | Massachusetts.
Citizens-Union Savings Bank | Fall River | Massachusetts.
Foxboro Federal Savings and Loan Association | Foxboro | Massachusetts.
Georgetown Savings Bank | Georgetown | Massachusetts.
First Essex Bank, FSB | Lawrence | Massachusetts.
Marblehead Savings Bank | Marblehead | Massachusetts.
Medford Co-operative Bank | Medford | Massachusetts.
Plymouth Savings Bank | Middleboro | Massachusetts.
Millbury Savings Bank | Millbury | Massachusetts.
Monson Savings Bank | Monson | Massachusetts.
Lawrence Savings Bank | North Andover | Massachusetts.
Warren Five Cents Savings Bank | Peabody | Massachusetts.
Saugus Co-operative Bank | Saugus | Massachusetts.
Scituate Federal Savings Bank | Scituate | Massachusetts.
Spencer Savings Bank | Spencer | Massachusetts.
Hampden Savings Bank | Springfield | Massachusetts.
Bristol County Savings Bank | Taunton | Massachusetts.
Middlesex Federal Savings | West Somerville | Massachusetts.
Federal Savings Bank | Dover | New Hampshire.
Bank of New Hampshire, N.A. | Farmington | New Hampshire.
Franklin Savings Bank | Franklin | New Hampshire.
Meredith Village Savings Bank | Meredith | New Hampshire.
Salem Co-operative Bank | Salem | New Hampshire.
First Brandon National Bank | Brandon | Vermont.
Vermont National Bank | Brattleboro | Vermont.
Howard Bank, N.A. | Burlington | Vermont.
Federal Home Loan Bank of New York—District 2
Liberty Bank | Avenel | New Jersey.
Pamrapo Savings Bank, S.L.A. | Bayonne | New Jersey.
National Bank of Sussex County | Branchville | New Jersey.
Farmers & Mechanics Bank | Burlington | New Jersey.
Freehold Savings and Loan Association | Freehold | New Jersey.
GSL Savings Bank | Guttenberg | New Jersey.
Oritani Savings Bank | Hackensack | New Jersey.
Investors Savings Bank | Millburn | New Jersey.
Millington Savings Bank | Millington | New Jersey.
Dollar Savings Bank | Newark | New Jersey.
Ocean City Home Bank | Ocean City | New Jersey.
Amboy National Bank | Old Bridge | New Jersey.
Ridgewood Savings Bank of New Jersey | Ridgewood | New Jersey.
OceanFirst Bank | Tom Rivers | New Jersey.
First Savings Bank, SLA | Woodbridge | New Jersey.
Brooklyn Federal Savings Bank | Brooklyn | New York.
Canisteo Savings and Loan Association | Canisteo | New York.
Elmira Savings and Loan, F.A | Elmira | New York.
The Upstate National Bank | Fayetteville | New York.
The National Bank of Geneva | Geneva | New York.
Glens Falls NB&T Company | Glens Falls | New York.
Maple City Savings and Loan Association | Hornell | New York.
Sunnyside FS&LA of Irvington | Irvington | New York.
The Lyons National Bank | Lyons | New York.
Maspeth Federal Savings & Loan Association | Maspeth | New York.
Massena Savings and Loan Association | Massena | New York.
Medina Savings and Loan | Medina | New York.
Cross County Federal Savings Bank | Middle Village | New York.
Provident Savings Bank, F.A | Montebello | New York.
Dime Savings Bank of New York, FSB | New York | New York.
The Berkshire Bank | New York | New York.
Carver Federal Savings Bank | New York | New York.
Ogdensburg FS&LA | Ogdensburg | New York.
Wilber National Bank | Oneonta | New York.
Union State Bank | Orangeburg | New York.
First Federal Savings Bank | Peekskill | New York.
First Tier Bank and Trust | Salamanca | New York.
Saratoga National Bank and Trust Company | Saratoga Springs | New York.
The National Bank of Stamford | Stamford | New York.
Yonkers Savings and Loan Association FA | Yonkers | New York.
Federal Home Loan Bank of Pittsburgh—District 3
Delaware National Bank | Georgetown | Delaware.
Artisans' Bank | Wilmington | Delaware.
Laurel Savings Bank | Allison Park | Pennsylvania.
Reliance Savings Bank | Altoona | Pennsylvania.
Investment Savings Bank | Altoona | Pennsylvania.
Peoples Home Savings Bank | Beaver Falls | Pennsylvania.
Pennwood Savings Bank | Bellevue | Pennsylvania.
Keystone Savings Bank | Bethlehem | Pennsylvania.
Columbia County Farmers National Bank | Bloomsburg | Pennsylvania.
The Bryn Mawr Trust Company | Bryn Mawr | Pennsylvania.
Community Bank, N.A | Carmichaels | Pennsylvania.
Charleroi Federal Savings Bank | Charleroi | Pennsylvania.
Citizens National Bank of Evans City | Evans City | Pennsylvania.
IGA Federal Savings | Feasterville | Pennsylvania.
Armstrong County Building & LA Ford City | Pennsylvania.
Greenville Savings Bank | Greenville | Pennsylvania.
Grange National Bank | Laceyville | Pennsylvania.
Westmoreland FS&LA of Latrobe | Latrobe | Pennsylvania.
First National Bank of Leesport | Leesport | Pennsylvania.
Mifflin County Savings Bank | Lewistown | Pennsylvania.
First Citizens National Bank | Mansfield | Pennsylvania.
First National Bank of Mifflintown | Mifflintown | Pennsylvania.
First Federal Savings Bank | Monessan | Pennsylvania.
Parkvale Savings Bank | Monroeville | Pennsylvania.
Community State Bank of Orbisonia | Orbisonia | Pennsylvania.
Beneficial Mutual Savings Bank | Philadelphia | Pennsylvania.
FirsTrust Bank | Philadelphia | Pennsylvania.
Prudential Savings Bank | Philadelphia | Pennsylvania.
NorthSide Bank | Pittsburgh | Pennsylvania.
Workingmens Savings Bank | Pittsburgh | Pennsylvania.
Liberty Savings Bank, F.S.B | Pottsville | Pennsylvania.
Elk County Savings & Loan Association | Ridgway | Pennsylvania.
Scottdale Bank and Trust Company | Scottdale | Pennsylvania.
Sewickley Savings Bank | Sewickley | Pennsylvania.
Keystone State Savings Bank | Sharpsburg | Pennsylvania.
First National Bank of Slippery Rock | Slippery Rock | Pennsylvania.
Union National Bank and Trust Company | Souderton | Pennsylvania.
East Stroudsburg Savings Association | Stroudsburg | Pennsylvania.
Washington Federal Savings Bank | Washington | Pennsylvania.
First FS&LA of Greene County | Waynesburg | Pennsylvania.
Citizens & Northern Bank | Wellsboro | Pennsylvania.
West View Savings Bank | Wexford | Pennsylvania.
First Century Bank, N.A. | Bluefield | West Virginia.
Huntington Federal Savings Bank | Huntington | West Virginia.
Doolin Security Savings Bank FSB | New Martinsville | West Virginia.
United National Bank | Parkersburg | West Virginia.
One Valley Bank of Mercer County, Inc. | Princeton | West Virginia.
First FS&LA of Ravenswood | Ravenswood | West Virginia.
First Federal Savings Bank | Sistersville | West Virginia.
The Williamstown National Bank | Williamstown | West Virginia.
Federal Home Loan Bank of Atlanta—District 4
Delaware National Bank | Georgetown | Delaware.
Brantley Bank and Trust Company | Brantley | Alabama.
Bank of Carbon Hill | Carbon Hill | Alabama.
Heritage Bank | Decatur | Alabama
Robertson Banking Company | Demopolis | Alabama.
The Citizens Bank | Greensboro | Alabama.
City Bank of Hartford | Hartford | Alabama.
Security Federal Savings Bank | Jasper | Alabama.
Gulf Federal Bank, a FSB | Mobile | Alabama.
The Bank | Monroeville | Alabama.
The Citizens Bank | Moulton | Alabama.
Phenix-Girard Bank | Phenix City | Alabama.
Bank of Vernon | Vernon | Alabama.
Bank of Wedowee | Wedowee | Alabama.
Bank of Belle Glade | Belle Glade | Florida.
Community Bank of Manatee | Bradenton | Florida.
CommerceBank, N.A. | Coral Gables | Florida.
Peoples State Bank of Groveland | Groveland | Florida.
First State Bank of the Florida Keys | Key West | Florida.
International Finance Bank | Miami | Florida.
Charlotte State Bank | Port Charlotte | Florida.
First American Bank of Walton County | Santa Rosa Beach | Florida.
Bank of St. Augustine | St. Augustine | Florida.
Central Bank of Tampa | Tampa | Florida.
Florida Bank, N.A. | Tampa | Florida.
Wauchula State Bank | Wauchula | Florida.
ebank | Atlanta | Georgia.
Bank of Early | Blakely | Georgia.
Planters and Citizens Bank | Camilla | Georgia.
Claxton Bank | Claxton | Georgia.
First Clayton Bank and Trust Company | Clayton | Georgia.
Central Bank and Trust | Cordele | Georgia.
First Community Bank of Dawsonville | Dawsonville | Georgia.
Bank Atlanta | Decatur | Georgia.
Colony Bank Southeast | Douglas | Georgia.
Bank of Eastman | Eastman | Georgia.
Gilmer County Bank | Ellijay | Georgia.
Capital Bank | Fort Oglethorpe | Georgia.
Bank of Hiawassee | Hiawassee | Georgia.
Citizens Bank | Homerville | Georgia.
Farmers State Bank | Lincolnton | Georgia.
Peoples Bank | Lyons | Georgia.
Mount Vernon Bank | Mt. Vernon | Georgia.
The Citizens Bank | Nashville | Georgia.
Regions Bank | Newnan | Georgia.
Community Bank of Wilcox | Pitts | Georgia.
Greater Rome Bank | Rome | Georgia.
Georgia Central Bank | Social Circle | Georgia.
Citizens Security Bank | Tifton | Georgia.
Athens First Bank & Trust Company | Watkinsville | Georgia.
AmericasBank | Baltimore | Maryland.
Community First Bank | Baltimore | Maryland.
Homewood Federal Savings Bank | Baltimore | Maryland.
Mercantile Safe Deposit and Trust Company | Baltimore | Maryland.
Community Bank of Maryland | Bowie | Maryland.
Easton Bank and Trust Company | Easton | Maryland.
Jarrettsville Federal S&L Association | Jarrettsville | Maryland.
Maryland Bank and Trust Company | Lexington Park | Maryland.
First National Bank of North East | North East | Maryland.
North Arundel Federal Savings Bank, FSB | Pasadena | Maryland.
The East Carolina Bank | Engelhard | North Carolina.
Catawba Valley Bank | Hickory | North Carolina.
First Bank | Troy | North Carolina.
Loyal American Life Insurance Company | Cincinnati | Ohio.
Bank of Belton | Belton | South Carolina.
Sandhills Bank | Bethune | South Carolina.
The Peoples Bank of Iva | Iva | South Carolina.
Carolina Community Bank | Latta | South Carolina.
The Palmetto Bank | Laurens | South Carolina.
The Citizens Bank | Olanta | South Carolina.
First State Bank | Danville | Virginia.
F&M Bank—Northern Virginia | Fairfax | Virginia.
Powell Valley National Bank | Jonesville | Virginia.
Bank of Charlotte County | Phenix | Virginia.
Valley Bank, N.A. | Roanoke | Virginia.
Federal Home Loan Bank of Cincinnati—District 5
First Federal Bank for Savings | Ashland | Kentucky.
Bank of Edmonson County | Brownsville | Kentucky.
United Citizens Bank and Trust Company | Campbellsburg | Kentucky.
Citizens Bank & Trust Company | Campbellsville | Kentucky.
Farmers & Traders Bank | Campton | Kentucky.
Carrollton Federal Savings and Loan | Carrollton | Kentucky.
First National Bank | Central City | Kentucky.
Peoples Bank of Northern Kentucky | Crestview Hills | Kentucky.
Farmers National Bank | Cynthiana | Kentucky.
Central Kentucky Federal Savings Bank | Danville | Kentucky.
United Kentucky Bank of Pendleton County | Falmouth | Kentucky.
Columbia Federal Savings Bank | Ft. Mitchell | Kentucky.
Bank of Germantown | Germantown | Kentucky.
HNB Bank, N.A. | Harlan | Kentucky.
State Bank and Trust Company | Harrodsburg | Kentucky.
First Financial Bank | Harrodsburg | Kentucky.
First Federal Savings and Loan Association | Hazard | Kentucky.
Bank of Magnolia | Hodgenville | Kentucky.
Mid America Bank, FSB | LaGrange | Kentucky.
First Lancaster Federal Savings Bank | Lancaster | Kentucky.
Citizens National Bank | Lebanon | Kentucky.
Farmers Deposit Bank of Middleburg | Liberty | Kentucky.
Home Federal Bank | Middlesboro | Kentucky.
First State Bank of Pineville | Middlesboro | Kentucky.
Middlesboro Federal Bank | Middlesboro | Kentucky.
The Bank of Mt. Vernon | Mt. Vernon | Kentucky.
Peoples Bank Mt. Washington | Mt. Washington | Kentucky.
Family Bank, FSB | Paintsville | Kentucky.
The Central Bank of North Pleasureville | Pleasureville | Kentucky.
First Bank and Trust Company | Princeton | Kentucky.
Bullitt County Bank | Shepardsville | Kentucky.
Liberty National Bank | Ada | Ohio.
The Bartlett Farmers Bank | Barlow | Ohio.
Industrial Savings and Loan Association | Bellevue | Ohio.
Bridgeport Savings and Loan Association | Bridgeport | Ohio.
Peoples Savings and Loan Company | Bucyrus | Ohio.
FNB of Southeastern Ohio | Caldwell | Ohio.
First Safety Bank | Cincinnati | Ohio.
Clifton Heights Loan and Building Company | Cincinnati | Ohio.
The Savings Bank | Circleville | Ohio.
The Peoples Bank Company | Coldwater | Ohio.
First City Bank | Columbus | Ohio.
Ohio Heritage Bank | Coshocton | Ohio.
Valley Savings Bank | Cuyahoga Falls | Ohio.
First Federal Savings and Loan | Defiance | Ohio.
Fidelity Federal Savings & Loan Association | Delaware | Ohio.
The Peoples Banking Company | Findlay | Ohio.
Heartland Bank | Gahanna | Ohio.
First FS&LA of Galion | Galion | Ohio.
The Home Building and Loan Company | Greenfield | Ohio.
Greenville FS&LA | Greenville | Ohio.
Home Federal Bank | Hamilton | Ohio.
First Federal Savings Bank of Ironton | Ironton | Ohio.
Lawrence Federal Savings Bank | Ironton | Ohio.
Liberty Federal Savings and Loan Association | Ironton | Ohio.
Ohio River Bank | Ironton | Ohio.
Kingston National Bank | Kingston | Ohio.
The Citizens Bank of Logan | Logan | Ohio.
Mechanics Savings Bank | Mansfield | Ohio.
Peoples FS&L of Massillon | Massillon | Ohio.
Metropolitan Bank and Trust Company | Mayfield Heights | Ohio.
Miami Savings and Loan Company | Miamitown | Ohio.
The Middlefield Banking Company | Middlefield | Ohio.
Nelsonville Home and Savings Association | Nelsonville | Ohio.
First FS&LA of Newark | Newark | Ohio.
Geauga Savings Bank | Newbury | Ohio.
Security Dollar Bank | Niles | Ohio.
The National Bank of Oak Harbor | Oak Harbor | Ohio.
Valley Central Savings Bank | Reading | Ohio.
The Citizens Banking Company | Sandusky | Ohio.
Peoples Federal Savings & Loan Association | Sidney | Ohio.
Commodore Bank | Somerset | Ohio.
Monroe Federal Savings and Loan Association | Tipp City | Ohio.
Van Wert Federal Savings Bank | Van Wert | Ohio.
Home Savings Bank of Wapakoneta | Wapakoneta | Ohio.
The Waterford Commercial & Savings Bank | Waterford | Ohio.
Adams County Building and Loan Company | West Union | Ohio.
Commerce National Bank | Worthington | Ohio.
Dollar Bank, FSB | Pittsburgh | Pennsylvania.
Bank of Bartlett | Bartlett | Tennessee.
Bank of Bolivar | Bolivar | Tennessee.
Farmers and Merchants Bank | Clarksville | Tennessee.
Farmers and Merchants Bank | Dyer | Tennessee.
First Citizens National Bank | Dyersburg | Tennessee.
Elizabethton Federal Savings Bank | Elizabethton | Tennessee.
Progressive Savings Bank | Jamestown | Tennessee.
Home Federal Bank of Tennessee | Knoxville | Tennessee.
First Central Bank | Lenoir City | Tennessee.
American Savings Bank | Livingston | Tennessee.
Volunteer Federal Savings and Loan | Madisonville | Tennessee.
First National Bank | McMinnville | Tennessee.
Jefferson Federal Savings and Loan Association | Morristown | Tennessee.
TNBank | Oak Ridge | Tennessee.
Union Planters Bank of N.W. TN, FSB | Paris | Tennessee.
Citizens Community Bank | Winchester | Tennessee.
First Federal Savings Bank of Angola | Angola | Indiana.
Peoples FSB of DeKalb County | Auburn | Indiana.
Peoples Federal Savings Bank | Aurora | Indiana.
Farmers and Mechanics FS&LA | Bloomfield | Indiana.
First State Bank | Bourbon | Indiana.
English State Bank | English | Indiana.
Home Loan Bank, FSB | Fort Wayne | Indiana.
Farmers Bank, Frankfort | Frankfort | Indiana.
Newton County Loan & Savings Association | Goodland | Indiana.
First Federal Savings & Loan | Greensburg | Indiana.
Lake FS&LA of Hammond | Hammond | Indiana.
HFS Bank, F.S.B | Hobart | Indiana.
Security Federal Savings Bank | Logansport | Indiana.
First Federal Savings Bank of Marion | Marion | Indiana.
Michigan City Savings & Loan | Michigan City | Indiana.
The First National Bank of Mitchell | Mitchell | Indiana.
First National Bank of Monterey | Monterey | Indiana.
First Merchants Bank, N.A | Muncie | Indiana.
Mutual Federal Savings Bank | Muncie | Indiana.
American Savings, FSB | Munster | Indiana.
Community Bank | Noblesville | Indiana.
First National Bank of Odon | Odon | Indiana.
Lincoln Federal Savings Bank | Plainfield | Indiana.
Harrington Bank, FSB | Richmond | Indiana.
First Parke State Bank | Rockville | Indiana.
Scottsburg Building & Loan Association | Scottsburg | Indiana.
Home Federal Savings Bank | Seymour | Indiana.
Owen Community Bank, SB | Spencer | Indiana.
First Farmers State Bank | Sullivan | Indiana.
Peoples Community Bank | Tell City | Indiana.
Terre Haute First National Bank | Terre Haute | Indiana.
1st American Bank | Vincennes | Indiana.
First Federal Savings Bank of Wabash | Wabash | Indiana.
First FS&LA of Washington | Washington | Indiana.
Home Building Savings Bank, FSB | Washington | Indiana.
Peoples National Bank | Washington | Indiana.
Bank of Wolcott | Wolcott | Indiana.
First Federal S&LA of Alpena | Alpena | Michigan.
Bank of Ann Arbor | Ann Arbor | Michigan.
Farmers State Bank Breckenridge | Breckenridge | Michigan.
Eaton Federal Savings Bank | Charlotte | Michigan.
Huron Community Bank | East Tawas | Michigan.
Hastings City Bank | Hastings | Michigan.
Bay Port State Bank | Pigeon | Michigan.
Kalamazoo County State Bank | Schoolcraft | Michigan.
Franklin Bank, N.A | Southfield | Michigan.
First National Bank of St. Ignace | St. Ignace | Michigan.
Northwestern Savings Bank and Trust | Traverse City | Michigan.
Federal Home Loan Bank of Chicago—District 7
West Pointe Bank and Trust Company | Belleville | Illinois.
he Belvidere National Bank & Trust Company | Belvidere | Illinois.
Central Illinois Bank | Bloomington | Illinois.
Citizens Savings Bank | Bloomington | Illinois.
American Enterprise Bank | Buffalo Grove | Illinois.
Farmers State Bank of Camp Point | Camp Point | Illinois.
Cornerstone Bank & Trust, N.A | Carrollton | Illinois.
First FSB—Champaign-Urbana | Champaign | Illinois.
Charleston Federal Savings and Loan Association | Charleston | Illinois.
Broadway Bank | Chicago | Illinois.
Central FS&LA of Chicago | Chicago | Illinois.
Columbus Savings Bank | Chicago | Illinois.
Fidelity Federal Savings Bank | Chicago | Illinois.
First Security Federal Savings Bank | Chicago | Illinois.
Liberty Bank for Savings | Chicago | Illinois.
Lincoln Park Savings Bank | Chicago | Illinois.
Mutual FS&LA of Chicago | Chicago | Illinois.
Universal Federal Savings Bank | Chicago | Illinois.
Collinsville Building and Loan Association | Collinsville | Illinois.
Home Federal S&LA of Collinsville | Collinsville | Illinois.
Covest Banc, NA | Des Plaines | Illinois.
First Federal Savings and Loan Association | Edwardsville | Illinois.
Forreston State Bank | Forreston | Illinois.
Hickory Point Bank and Trust, FSB | Forsyth | Illinois.
Marquette Bank Fulton | Fulton | Illinois.
Glenview State Bank | Glenview | Illinois.
Guardian Savings Bank FSB | Granite City | Illinois.
The First National Bank of Grant Park | Grant Park | Illinois.
The Granville National Bank | Granville | Illinois.
The Bradford National Bank of Greenville | Greenville | Illinois.
The Havana National Bank | Havana | Illinois.
Herrin Security Bank | Herrin | Illinois.
South End Savings, s.b | Homewood | Illinois.
The First National Bank of Jonesboro | Jonesboro | Illinois.
Eureka Savings Bank | La Salle | Illinois.
First State Bank of Western Illinois | La Harpe | Illinois.
First National Bank of Illinois | Lansing | Illinois.
Lisle Savings Bank | Lisle | Illinois.
First National Bank of Litchfield | Litchfield | Illinois.
West Suburban Bank | Lombard | Illinois.
First Security Bank | Macknaw | Illinois.
The First National Bank of Manhattan | Manhattan | Illinois.
Milford Building and Loan Association | Milford | Illinois.
Southeast National Bank of Moline | Moline | Illinois.
Nashville Savings Bank | Nashville | Illinois.
Northview Bank and Trust | Northfield | Illinois.
Illini State Bank | Oglesby | Illinois.
Peoples Bank and Trust of Pana | Pana | Illinois.
The Poplar Grove State Bank Poplar | Poplar Grove | Illinois.
Citizens First National Bank | Princeton | Illinois.
First Robinson Savings Bank, N.A. | Robinson | Illinois.
Alpine Bank of Illinois | Rockford | Illinois.
First FS&LA of Shelbyville | Shelbyville | Illinois.
The First National Bank | Vandalia | Illinois.
The International Bank of Amherst | Amherst | Wisconsin.
The First National Bank of Bangor | Bangor | Wisconsin.
The Bank of Brodhead | Brodhead | Wisconsin.
Bank of Deerfield | Deerfield | Wisconsin.
Meridian Capital Bank, N.A. | Edgar | Wisconsin.
Fox Valley Savings and Loan Association | Fond du Lac | Wisconsin.
National Exchange Bank and Trust | Fond du Lac | Wisconsin.
First Northern Savings Bank, S.A. | Green Bay | Wisconsin.
Park Bank | Holmen | Wisconsin.
Ixonia State Bank | Ixonia | Wisconsin.
First FSB La Crosse-Madison | La Crosse | Wisconsin.
Ladysmith FS&LA | Ladysmith | Wisconsin.
Markesan State Bank | Markesan | Wisconsin.
Fidelity National Bank | Medford | Wisconsin.
Merrill Federal S&LA | Merrill | Wisconsin.
Continental Savings Bank, S.A. | Milwaukee | Wisconsin.
Guaranty Bank, S.S.B. | Milwaukee | Wisconsin.
Lincoln Community Bank | Milwaukee | Wisconsin.
Bank of Elmwood | Racine | Wisconsin.
M&I Lakeview Bank | Sheboygan | Wisconsin.
Spencer State Bank | Spencer | Wisconsin.
First Bank | Tomah | Wisconsin.
The Farmers State Bank of Waupaca | Waupaca | Wisconsin.
Paper City Savings Association | Wisconsin Rapids | Wisconsin.
Federal Home Loan Bank of Des Moines—District 8
Brenton Savings Bank, FSB | Ames | Iowa.
First American Bank | Ames | Iowa.
Citizens Savings Bank | Anamosa | Iowa.
Community State Bank | Ankeny | Iowa.
Ashton State Bank | Ashton | Iowa.
Atkins Savings Bank | Atkins | Iowa.
Midwest FS&LA of Eastern Iowa | Burlington | Iowa.
Iowa Trust and Savings Bank | Centerville | Iowa.
First Security Bank and Trust | Charles City | Iowa.
Page County Federal Savings Association | Clarinda | Iowa.
First FSB of Creston, F.S.B. | Creston | Iowa.
State FS&LA of Des Moines | Des Moines | Iowa.
Principal Bank | Des Moines | Iowa.
Fidelity Bank and Trust | Dyersville | Iowa.
Community Savings Bank | Edgewood | Iowa.
First American Bank | Fort Dodge | Iowa.
Hampton State Bank | Hampton | Iowa.
Independence Federal Bank for Savings | Independence | Iowa.
Hawkeye State Bank | Iowa City | Iowa.
First Community Bank, FSB | Keokuk | Iowa.
Keokuk Savings Bank and Trust Company | Keokuk | Iowa.
Iowa State Savings Bank | Knoxville | Iowa.
Cedar Valley Bank & Trust | LaPorte City | Iowa.
Farmers and Merchants Savings Bank | Lone Tree | Iowa.
Keystone Savings Bank | Marengo | Iowa.
United Community Bank | Milford | Iowa.
New Albin Savings Bank | New Albin | Iowa.
City State Bank | Norwalk | Iowa.
Northwestern State Bank Orange City | Orange City | Iowa.
Clarke County State Bank | Osceola | Iowa.
First Trust and Savings Bank | Oxford | Iowa.
Citizens State Bank | Pocahontas | Iowa.
Citizens Bank | Sac City | Iowa.
American State Bank | Sioux Center | Iowa.
Solon State Bank | Solon | Iowa.
Northwest Federal Savings Bank | Spencer | Iowa.
First FSB of the Midwest | Storm Lake | Iowa.
Randall-Story State Bank | Story City | Iowa.
Waukee State Bank | Waukee | Iowa.
West Liberty State Bank | West Liberty | Iowa.
Viking Savings Association, F.A. | Alexandria | Minnesota.
First State Bank of Bigfork | Bigfork | Minnesota.
Brainerd S&LA, a FSB | Brainerd | Minnesota.
The Oakley National Bank of Buffalo | Buffalo | Minnesota.
State Bank in Eden Valley | Eden Valley | Minnesota.
Bank Midwest, Minnesota Iowa, N.A. | Fairmont | Minnesota.
The State Bank of Faribault | Faribault | Minnesota.
First Minnesota Bank, N.A. | Glencoe | Minnesota.
State Bank of Kimball | Kimball | Minnesota.
The First National Bank of Menahga | Menahga | Minnesota.
TCF National Bank Minnesota | Minneapolis | Minnesota.
Northern National Bank | Nisswa | Minnesota.
The First National Bank of Osakis | Osakis | Minnesota.
Valley State Bank of Oslo | Oslo | Minnesota.
First National Bank | Plainview | Minnesota.
The Goodhue County National Bank | Red Wing | Minnesota.
21st Century Bank | Rogers | Minnesota.
Minnwest Bank South | Slayton | Minnesota.
Citizens Independent Bank | St. Louis Park | Minnesota.
The First National Bank of St. Peter | St. Peter | Minnesota.
Tracy State Bank | Tracy | Minnesota.
Queen City Federal Savings Bank | Virginia | Minnesota.
Missouri Federal Savings Bank | Cameron | Missouri.
Southwest Missouri Bank | Carthage | Missouri.
First Bank | Creve Coeur | Missouri.
North American Savings Bank, FSB | Grandview | Missouri.
MCM Savings Bank, FSB | Hannibal | Missouri.
Bluff City Mutual Savings and Loan | Hannibal | Missouri.
First Federal Bank, F.S.B. | Kansas City | Missouri.
Laclede County Bank | Lebanon | Missouri.
Liberty Savings Bank, F.S.B. | Liberty | Missouri.
Clay County Savings and Loan Association | Liberty | Missouri.
First Home Savings Bank | Mountain Grove | Missouri.
Home S&LA of Norborne, F.A. | Norborne | Missouri.
Southern Missouri Bank & Trust Company | Poplar Bluff | Missouri.
Central Federal Savings & Loan Assn. | Rolla | Missouri.
Montgomery First National Bank | Sikeston | Missouri.
Guaranty Federal Savings Bank | Springfield | Missouri.
Midwest FS&LA of St. Joseph | St. Joseph | Missouri.
Provident Bank, FSB | St. Joseph | Missouri.
Bremen Bank and Trust Company | St. Louis | Missouri.
Lindell Bank and Trust | St. Louis | Missouri.
Southern Commercial Bank | St. Louis | Missouri.
BNC National Bank | Bismarck | North Dakota.
First Southwest Bank | Bismarck | North Dakota.
Ramsey National Bank & Trust Company | Devils Lake | North Dakota.
American State B&T of Dickinson | Dickinson | North Dakota.
Security State Bank | Dunseith | North Dakota.
First National Bank North Dakota | Grand Forks | North Dakota.
The National Bank of Harvey | Harvey | North Dakota.
Walhalla State Bank | Walhalla | North Dakota.
Dacotah Bank, Aberdeen | Aberdeen | South Dakota.
First Federal Bank, fsb | Beresford | South Dakota.
First Savings Bank | Beresford | South Dakota.
First National Bank in Brookings | Brookings | South Dakota.
Bryant State Bank | Bryant | South Dakota.
First Western Federal Savings Bank | Rapid City | South Dakota.
Federal Home Loan Bank of Dallas—District 9
First National Bank of Sharp County | Ash Flat | Arkansas.
Arkansas National Bank | Bentonville | Arkansas.
Heartland Community Bank | Camden | Arkansas.
Corning Savings and Loan | Corning | Arkansas.
Bank of Glenwood | Glenwood | Arkansas.
First State Bank of Gurdon | Gurdon | Arkansas.
First Arkansas Bank and Trust | Jacksonville | Arkansas.
Arkansas Bankers' Bank | Little Rock | Arkansas.
Diamond State Bank | Murfreesboro | Arkansas.
First National Bank | Paragould | Arkansas.
Peoples Bank of Paragould | Paragould | Arkansas.
Pocahontas Federal Savings and Loan Association | Pocahontas | Arkansas.
Bank of Rogers | Rogers | Arkansas.
Bank of Star City | Star City | Arkansas.
Bank of Waldron | Waldron | Arkansas.
First National Bank USA | Boutte | Louisiana.
Citizens Progressive Bank | Columbia | Louisiana.
Beauregard Federal Savings Bank | DeRidder | Louisiana.
Home Savings Bank, FSB | Lafayette | Louisiana.
First FS&LA of Lake Charles | Lake Charles | Louisiana.
Greater New Orleans Homestead | Metairie | Louisiana.
Minden Building and Loan Association | Minden | Louisiana.
Algiers Homestead Association | New Orleans | Louisiana.
Dryades Savings Bank, F.S.B. | New Orleans | Louisiana.
Fifth District Savings & Loan Association | New Orleans | Louisiana.
Union Savings and Loan Association | New Orleans | Louisiana.
Plaquemine Bank and Trust Company | Plaquemine | Louisiana.
Rayne Building and Loan Association | Rayne | Louisiana.
Citizens Bank and Trust Company | Springhill | Louisiana.
First National Bank of Lucedale | Lucedale | Mississippi.
First National Bank of Ponotoc | Pontotoc | Mississippi.
Lamar Bank | Purvis | Mississippi.
North Central Bank For Savings | Winona | Mississippi.
Alamogordo Federal Savings and LA | Alamogordo | New Mexico.
First National Bank | Artesia | New Mexico.
The First National Bank of New Mexico | Clayton | New Mexico.
Matrix Capital Bank | Las Cruces | New Mexico.
First National Bank in Las Vegas | Las Vegas | New Mexico.
First Federal Bank | Roswell | New Mexico.
Charter Bank | Santa Fe | New Mexico.
Tucumcari Federal S& LA | Tucumcari | New Mexico.
United Bank and Trust | Abilene | Texas.
Alamo Bank of Texas | Alamo | Texas.
FirstBank Southwest NA | Amarillo | Texas.
First Savings Bank, FSB | Arlington | Texas.
Brenham National Bank | Brenham | Texas.
Texas Bank | Brownwood | Texas.
The First State Bank | Celina | Texas.
First National Bank of Chillicothe | Chillicothe | Texas.
First Bank of West Texas | Coahoma | Texas.
The First State Bank | Columbus | Texas.
First Bank of Conroe | Conroe | Texas.
First Commerce Bank | Corpus Christi | Texas.
Citizens National Bank | Crockett | Texas.
Cuero State Bank, ssb | Cuero | Texas.
Dalhart Federal Savings and Loan Association | Dalhart | Texas.
Preston National Bank | Dallas | Texas.
Mercantile Bank & Trust, FSB | Dallas | Texas.
First Prosperity Bank | El Campo | Texas.
Union State Bank | Florence | Texas.
Citizens National Bank | Fort Worth | Texas.
Colonial Savings, F.A. | Fort Worth | Texas.
Summit Community Bank N.A. | Fort Worth | Texas.
Guaranty National Bank | Gainesville | Texas.
National Bank | Gatesville | Texas.
Gilmer Savings Bank, FSB | Gilmer | Texas.
Gladewater National Bank | Gladewater | Texas.
Planters and Merchants State Bank | Hearne | Texas.
Houston Community Bank, N.A. | Houston | Texas.
Affiliated Bank | Hurst | Texas.
Justin State Bank | Justin | Texas.
City National Bank | Kilgore | Texas.
Farmers and Merchants State Bank | Krum | Texas.
Fayette Savings Bank, ssb | La Grange | Texas.
National Bank & Trust | La Grange | Texas.
Commerce Bank | Laredo | Texas.
Falcon National Bank | Laredo | Texas.
East Texas Professional Credit Union | Longview | Texas.
Longview Bank and Trust | Longview | Texas.
The First State Bank | Louise | Texas.
First Bank and Trust Company | Lubbock | Texas.
Lubbock National Bank | Lubbock | Texas.
Northeast National Bank | Mesquite | Texas.
City National Bank | Mineral Wells | Texas.
First National Bank of Mount Vernon | Mount Vernon | Texas.
First National Bank in Munday | Munday | Texas.
Morris County National Bank | Naples | Texas.
First Federal Community Bank | Paris | Texas.
Peoples National Bank— Paris | Paris | Texas.
Gulf Coast Educators Federal Credit Union | Pasadena | Texas.
PointBank, N.A. | Pilot Point | Texas.
Pilgrim Bank | Pittsburg | Texas.
Wood County National Bank | Quitman | Texas.
Robert Lee State Bank | Robert Lee | Texas.
Intercontinental National Bank | San Antonio | Texas.
Balcones Bank, S.S.B. | San Marcos | Texas.
Citizens State Bank | Sealy | Texas.
Southern National Bank of Texas | Sugar Land | Texas.
Heritage Savings Bank, ssb | Terrell | Texas.
The American National Bank of Texas | Terrell | Texas.
Citizens First Bank | Tyler | Texas.
Hill Bank and Trust Company | Weimar | Texas.
American National Bank | Wichita Falls | Texas.
Wilson State Bank | Wilson | Texas.
Fannin Bank | Windom | Texas.
Federal Home Loan Bank of Topeka—District
Vectra Bank Colorado—Alamosa | Alamosa | Colorado.
San Luis Valley Federal Bank | Alamosa | Colorado.
Collegiate Peaks Bank | Buena Vista | Colorado.
Pikes Peak National Bank | Colorado Springs | Colorado.
Community Banks of Colorado | Cripple Creek | Colorado.
Rocky Mountain Bank and Trust | Florence | Colorado.
First State Bank of Fort Collins | Fort Collins | Colorado.
First National Bank | Fort Collins | Colorado.
Gunnison Savings & Loan Association | Gunnison | Colorado.
American Bank | Loveland | Colorado.
Rio Grande Savings & Loan Association | Monte Vista | Colorado.
Montrose Bank | Montrose | Colorado.
FirsTier Bank | Northglenn | Colorado.
The First National Bank of Ordway | Ordway | Colorado.
Paonia State Bank | Paonia | Colorado.
The Minnequa Bank of Pueblo | Pueblo | Colorado.
Rocky Ford Federal Savings and Loan | Rocky Ford | Colorado.
Century Savings and Loan Association | Trinidad | Colorado.
Park State Bank | Woodland Park | Colorado.
Prairie State Bank | Augusta | Kansas.
First National Bank | Cimarron | Kansas.
Golden Belt Bank, FSA | Ellis | Kansas.
The Girard National Bank | Girard | Kansas.
Farmers Bank and Trust, N.A. | Great Bend | Kansas.
Central National Bank | Junction City | Kansas.
Argentine Federal Savings | Kansas City | Kansas.
Citizens Bank of Kansas, N.A. | Kingman | Kansas.
University National Bank | Lawrence | Kansas.
Mutual Savings Association, FSA | Leavenworth | Kansas.
The Citizens State Bank | Liberal | Kansas.
The Citizens State Bank | Moundridge | Kansas.
Midland National Bank | Newton | Kansas.
Bank of Blue Valley | Overland Park | Kansas.
Firstar Bank Midwest | Overland Park | Kansas.
Peoples Bank | Overland Park | Kansas.
Peabody State Bank | Peabody | Kansas.
The Bank of Perry | Perry | Kansas.
The Plains State Bank | Plains | Kansas.
The Peoples Bank | Pratt | Kansas.
First Bank Kansas | Salina | Kansas.
Security Savings Bank, F.S.B. | Salina | Kansas.
The Stockton National Bank | Stockton | Kansas.
First National Bank | Syracuse | Kansas.
The Bank of Tescott | Tescott | Kansas.
Silver Lake Bank | Topeka | Kansas.
Capitol Federal Savings Bank | Topeka | Kansas.
Southwest Bank, N.A. | Ulysses | Kansas.
Kendall State Bank | Valley Falls | Kansas.
The Bank of Commerce and Trust Company | Wellington | Kansas.
Garden Plain State Bank | Wichita | Kansas.
Commerce Bank, N.A. | Wichita | Kansas.
Community First National Bank | Alliance | Nebraska.
Western Heritage Credit Union | Alliance | Nebraska.
Farmers and Merchants National Bank | Ashland | Nebraska.
Beatrice National Bank and Trust Company | Beatrice | Nebraska.
Clarkson Bank | Clarkson | Nebraska.
Nebraska Energy Federal Credit Union | Columbus | Nebraska.
American Interstate Bank | Elkhorn | Nebraska.
The Genoa National Bank | Genoa | Nebraska.
Overland National Bank | Grand Island | Nebraska.
United Nebraska Bank | Grand Island | Nebraska.
First Federal Lincoln Bank | Lincoln | Nebraska.
NB of Commerce Trust and S.A. | Lincoln | Nebraska.
First National Bank of McCook | McCook | Nebraska.
Platte Valley National Bank | Morrill | Nebraska.
Otoe County Bank and Trust Company | Nebraska City | Nebraska.
The Nehawka Bank | Nehawka | Nebraska.
Enterprise Bank, N.A. | Omaha | Nebraska.
Platte Valley National Bank—Scottsbluff | Scottsbluff | Nebraska.
First National Bank | Sidney | Nebraska.
The Wymore State Bank | Wymore | Nebraska.
Anadarko Bank & Trust Company | Anadarko | Oklahoma.
Community Bank | Bristow | Oklahoma.
Oklahoma Bank and Trust Company | Clinton | Oklahoma.
American Bank of Oklahoma | Collinsville | Oklahoma.
Arvest United Bank | Del City | Oklahoma.
Citizens Bank | Edmond | Oklahoma.
First National Bank and Trust | Elk City | Oklahoma.
Bank of the Panhandle | Guymon | Oklahoma.
Legacy Bank ACB | Hinton | Oklahoma.
McCurtain County National Bank | Idabel | Oklahoma.
First State Bank | Keyes | Oklahoma.
City National Bank & Trust Company | Lawton | Oklahoma. .
First National Bank in Marlow | Marlow | Oklahoma.
Community National Bank of Okarche | Okarche | Oklahoma.
First National Bank in Okeene | Okeene | Oklahoma.
BancFirst | Oklahoma City | Oklahoma.
Bankers Bank of Oklahoma City | Oklahoma City | Oklahoma.
Calhoun County Bank | Oklahoma City | Oklahoma.
National Bank of Commerce | Oklahoma City | Oklahoma.
Citizens Bank and Trust Company | Okmulgee | Oklahoma.
The Okmulgee Savings and Loan Association | Okmulgee | Oklahoma.
Bank of the Lakes, N.A. | Owasso | Oklahoma.
First State Bank | Porter | Oklahoma.
Farmers State Bank | Quinton | Oklahoma.
First National Bank and Trust Company | Shawnee | Oklahoma.
Triad Bank, N.A. | Tulsa | Oklahoma.
Valley National Bank | Tulsa | Oklahoma.
The First NB&TC of Vinita | Vinita | Oklahoma.
First American Bank, N.A. | Woodward | Oklahoma.
Federal Home Loan Bank of San Francisco—District 11
Founders Bank of Arizona | Scottsdale | Arizona.
Trust Bank, F.S.B. | Arcadia | California.
Borrego Springs Bank NA | Borrego Springs | California.
Fullerton Community Bank | Fullerton | California.
Western Financial Bank | Irvine | California.
Scripps Bank | La Jolla | California.
Silvergate Bank | La Mesa | California.
Broadway FS&LA of Los Angeles | Los Angeles | California.
California Federal Bank, A FSB | Los Angeles | California.
Family Savings Bank, FSB | Los Angeles | California.
Founders National Bank of Los Angeles | Los Angeles | California.
Monterey County Bank | Monterey | California.
Standard Savings Bank, FSB | Monterey Park | California.
Capitol Thrift and Loan Association | Napa | California.
Cerritos Valley Bank | Norwalk | California.
Metropolitan Bank | Oakland | California.
Community Bank | Pasadena | California.
Bank of Petaluma | Petaluma | California.
El Dorado Savings Bank | Placerville | California.
Frontier State Bank | Redondo Beach | California.
Kings River State Bank | Reedley | California.
Life Bank | San Bernardino | California.
Sincere Federal Savings Bank | San Francisco | California.
East-West Bank | San Marino | California.
Bay View Bank, N.A. | San Mateo | California.
First FS&LA of San Rafael | San Rafael | California.
First Federal Bank of California | Santa Monica | California.
National Bank of the Redwoods | Santa Rosa | California.
Sunwest Bank | Tustin | California.
Desert Community Bank | Victorville | California.
First FS&LA of San Gabriel Valley | West Covina | California.
Citibank, FSB | New York | New York.
Washington Mutual Bank, FA | Seattle | Washington.
Federal Home Loan Bank of Seattle—District 12
First Interstate Bank of Alaska, N.A. | Anchorage | Alaska.
First National Bank of Anchorage | Anchorage | Alaska.
Mt. McKinley Mutual Savings Bank | Fairbanks | Alaska.
Bank of Guam | Agana | Guam.
American Savings Bank, F.S.B. | Honolulu | Hawaii.
Mountain West Bank | Coeur D'Alene | Idaho.
Big Sky Western Bank | Big Sky | Montana.
First Security Bank of Bozeman | Bozeman | Montana.
Glacier Bank of Eureka | Eureka | Montana.
Heritage Bank, a F.S.B. | Great Falls | Montana.
Ravalli County Bank | Hamilton | Montana.
American Federal Savings Bank | Helena | Montana.
Glacier Bank, fsb | Kalispell | Montana.
Montana First National Bank | Kalispell | Montana.
Manhattan State Bank | Manhattan | Montana.
Stockman Bank of Montana | Miles City | Montana.
Western Security Bank | Missoula | Montana.
Bank of Astoria | Astoria | Oregon.
Security Bank | Coos Bay | Oregon.
Bank of Salem | Salem | Oregon.
Columbia River Bank | The Dalles | Oregon.
First Security Bank of Utah | Salt Lake City | Utah.
Cascade Bank | Everett | Washington.
InterWest Bank | Oak Harbor | Washington.
North Sound Bank | Poulsbo | Washington.
Raymond Federal Savings Bank | Raymond | Washington.
EvergreenBank | Seattle | Washington.
Washington Federal Savings | Seattle | Washington.
Sterling Savings Bank | Spokane | Washington.
Buffalo Federal Savings Bank | Buffalo | Wyoming.
Hilltop National Bank | Casper | Wyoming.
Big Horn Federal Savings Bank | Greybull | Wyoming

To encourage the submission of public comments on the community support performance of Bank members, on or before July 28, 2000, each Bank will notify its Advisory Council and nonprofit housing developers, community groups, and other interested parties in its district of the members selected for community support review in the 2000-02 second quarter review cycle. 12 CFR 944.2(b)(2)(ii). In reviewing a member for community support compliance, the Finance Board will consider any public comments it has received concerning the member. 12 CFR 944.2(d). To ensure consideration by the Finance Board, comments concerning the community support performance of members selected for the 2000-02 second quarter review cycle must be delivered to the Finance Board on or before the August 28, 2000 deadline for submission of Community Support Statements.

By the Federal Housing Finance Board.
William W. Ginsberg,
Managing Director.

[FR Doc. 00-17134 Filed 7-13-00; 8:45 am]

BILLING CODE 6725-01-P